DEPARTMENT OF DEFENSE

Department of the Air Force

Notice of Intent To Prepare an Environmental Impact Statement (Eis) for the Implementation of the Base Realignment and Closure (BRAC) 2005 Decisions and Related Actions at Eglin Air Force Base (AFB), FL

AGENCY: Department of the Air Force, DOD.

ACTION: Notice of intent.

SUMMARY: Pursuant to the National Environmental Policy Act (NEPA) of 1969, as amended (42 United States Code 4321, et seq.), the Council on Environmental Quality Regulations for implementing procedural provisions of NEPA (40 Code of Federal Regulation (CFR) Parts 1500-1508), and Air Force policy and procedures (32 CFR Part 989), the Air Force is issuing this notice to advise the public of its intent to prepare an EIS evaluating potential environmental impacts associated with implementation of the 2005 BRAC Commission's recommendations and related actions for Eglin AFB, FL.

The 2005 BRAC Commission identified establishment of a Joint Strike Fighter (JSF) Integrated Training Center (ITC), relocation of the Army 7th Special Forces Group (Airborne) [7SFG(A)] from Fort Bragg, North Carolina, and creating an Air Integrated Weapons and Armaments Research, Development and Acquisition, Test and Evaluation Center by relocating the Weapons and Armaments In-Service Engineering Research, Development and Acquisition, and Test and Evaluation from Hill AFB, UT and the Defense Threat Reduction Agency from Fort Belvoir, VA to Eglin AFB. The JSF ITC would be the initial training site for joint Air Force, Navy, and Marine Corps JSF training organizations, as well as the United Kingdom, which is a full partner in this program. The training site would teach aviators and maintenance technicians how to properly operate and maintain 107 F-35 aircraft. As part of this action, F-35 basing, facility construction and renovation, on-site maintenance and use of training airspace are being analyzed. The 7SFG (A)'s principal mission includes planning and executing unconventional warfare, combating terrorism operations, direct action, special reconnaissance, and foreign internal defense. Their realignment to Eglin provides multi-service collocation, joint training synergy with Air Force Special Operations Command and places 7SFG(A) on training lands that match their wartime area of responsibility in Central and South America. Approximately 4,600 personnel are associated with the bed down of both organizations. When including spouses and children, the estimated total of personnel coming to the Eglin AFB area would be 10,000 people. As part of this action, the Air Force is considering various alternatives for facility construction and renovation, land range development, equipment storage and operation, and land-based training/maneuvering to be analyzed in the EIS. The EIS may also include within its scope the potential environmental effects associated with socioeconomics, transportation, noise, cultural resources, water resources, wetlands, floodplains, air quality, land use, infrastructure, and biological resources. The Air Force will conduct scoping meetings to solicit public input concerning this proposal. The scoping process will help identify issues to be addressed in the environmental analysis. The exact dates, times and location(s) will be announced through local media. Oral and written comments presented at the public meetings, as well as written comments received by the Air Force during this scoping period and throughout the EIS process, will be considered in the preparation of the EIS and will be made a part of the administrative record.

FOR FURTHER INFORMATION CONTACT: Please direct any written comments or requests for information to Mr. Michael Spaits, Public Affairs, AAC/EM-PAV, Eglin AFB, FL 32542-5000 (PH: 850-882-2878; mike.spaits@eglin.af.mil). Handicap assistance and translation service at the public meetings are available in advance through Mr. Spaits.

Bao-Anh Trinh,
Air Force Federal Register Liaison Officer.

[FR Doc. E6-12085 Filed 7-27-06; 8:45 am]

BILLING CODE 5001-05-P